NUCLEAR REGULATORY COMMISSION

Risk Analysis and Evaluation of Regulatory Options for Nuclear Byproduct Material Systems

AGENCY: Nuclear Regulatory Commission.

ACTION: Notice of availability.

SUMMARY: The Nuclear Regulatory Commission (NRC) is announcing the availability of NUREG/CR-6642, “Risk Analysis and Evaluation of Regulatory Options for Nuclear Byproduct Material Systems,” dated December 1999.

ADDRESSES: Copies of NUREG/CR-6642 may be obtained by writing to the Superintendent of Documents, U.S. Government Printing Office, P.O. Box 37082, Washington, DC 20402-9328. Copies are also available from the National Technical Information Service, 5285 Port Royal Road, Springfield, Virginia 22161. A copy of the document is also available for inspection and/or copying for a fee in the NRC Public Document Room, 2120 L Street, NW (Lower Level), Washington, DC 20555-0001.

FOR FURTHER INFORMATION CONTACT: Ms. Torre Taylor, Mail Stop TWFN 9-C-24, Division of Industrial and Medical Nuclear Safety, Office of Nuclear Material Safety and Safeguards, U.S. Nuclear Regulatory Commission, Washington, DC 20555, telephone: (301) 415-7900, e-mail: tmt@nrc.gov.

SUPPLEMENTARY INFORMATION: On August 25, 1999 (64 FR 46456), NRC published draft NUREG/CR-6642, “Risk Analysis and Evaluation of Regulatory Options for Nuclear Byproduct Material Systems,” for public comment. All comments received during the comment period were reviewed in the preparation of the final NUREG report. The final version of NUREG/CR-6642 is now available. NUREG/CR-6642 presents a detailed, comparative risk analysis of nuclear byproduct materials, organized into groups of activities or “systems,” such as nuclear pharmacy, pool irradiators, and industrial radiography. It also describes the methodology used in the risk analysis and provides the results of the analysis.

Electronic Access

NUREG/CR-6642 will also be available at NRC's web site under Reference Library—Technical Reports or directly at http://www.nrc.gov/NRC/NUREGS/CR6642/index.html.

Dated at Rockville, Maryland, this 10th day of March, 2000.
For the Nuclear Regulatory Commission.
Catherine Haney,
Acting Chief, Rulemaking and Guidance Branch, Division of Industrial and Medical Nuclear Safety, NMSS.

[FR Doc. 00-12553 Filed 5-17-00; 8:45 am]

BILLING CODE 7590-01-P